DEPARTMENT OF STATE

[Public Notice: 6757; OMB 1405-XXXX, DS-7651]

30-Day Notice of Proposed Information Collection: Office of Language Services Contractor Application Form

ACTION: Notice of request for public comment and submission to OMB of proposed collection of information.

SUMMARY: The Department of State has submitted the following information collection request to the Office of Management and Budget (OMB) for approval in accordance with the Paperwork Reduction Act of 1995.

• Title of Information Collection: Office of Language Services Contractor Application Form.

• OMB Control Number: None.

• Type of Request: New Collection.

• Originating Office: Bureau of Administration (A/OPR/LS).

• Form Number: DS-7651.

• Respondents: General Public Applying for Translator and/or Interpreter Contract.

• Estimated Number of Respondents: 900.

• Estimated Number of Responses: 900.

• Average Hours per Response: Thirty minutes.

• Total Estimated Burden: 450 hours.

• Frequency: On Occasion.

• Obligation to Respond: Required to Obtain or Retain a Benefit.

DATES: Submit comments to the Office of Management and Budget (OMB) for up to 30 days from September 4, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-5806.

FOR FURTHER INFORMATION CONTACT: You may obtain copies of the proposed information collection and supporting documents from Ms. Keiry Carroll at 2401 E Street, NW., Fourteenth Floor, Washington, DC 20522, who may be reached on (202) 261-8777 or at carrollkm@state.gov.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The information collected is needed to ascertain whether respondents are viable interpreting and/or translating candidates, based on their work history and legal work status in the United States. If candidates successfully become contractors for the U.S. Department of State, Office of Language Services, the information collected is used to initiate security clearance background checks and for processing payment vouchers. Respondents are typically members of the general public with varying degrees of experience in the fields of interpreting and/or translating.

Methodology

OLS makes the “Office of Language Services Contractor Application Form” available via the OLS Internet site. Respondents can submit it electronically via e-mail or fax.

Dated: August 21, 2009.
Matthew S. Klimow,
Director, Office of Language Services, Department of State.

[FR Doc. E9-21413 Filed 9-3-09; 8:45 am]

BILLING CODE 4710-24-P